DEPARTMENT OF ENERGY

Federal Energy Regulatory Commission

[Project No. 13300-000]

Marmc Enterprises, LLC; Notice of Preliminary Permit Application Accepted for Filing and Soliciting Comments, Motions To Intervene, and Competing Applications

November 18, 2008.

On October 14, 2008 and supplemented on November 17, 2008, MARMC Enterprises, LLC filed an application, pursuant to section 4(f) of the Federal Power Act, proposing to study the feasibility of the Third District Reach Project, located on the Mississippi River in Orleans and St. Bernard Parishes, Louisiana. The project uses no dam or impoundment.

The proposed project would consist of: (1) 40 bi-directional Underwater Electric Kite (UEK) turbine generating units, with a total installed capacity of 16-megawatts, (2) an underwater cable approximately 300 foot in length, and (3) appurtenant facilities. The project is estimated to have an annual generation of 137.357-gigawatt-hours, which would be sold to a local utility, industrial or commercial customer, or into the wholesale energy markets.

Applicant Contact: Ms. Nicoline Marinovich, MARMC Enterprises, LLC, 816 Pacific Avenue, New Orleans, Louisiana 70114-2438, phone 986-705-2940.

FERC Contact: Kelly Houff (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13300) in the docket number field to access the document. For assistance, call toll-free 1-866-208-3372.

Kimberly D. Bose,
Secretary.

[FR Doc. E8-27817 Filed 11-21-08; 8:45 am]

BILLING CODE 6717-01-P